NUCLEAR REGULATORY COMMISSION

[Docket Nos. 50-498 and 50-499]

STP Nuclear Operating Company, et al.; Notice of Consideration of Approval of Application Transfer of Facility Operating Licenses and Conforming Amendments and Opportunity for Hearing; Correction

AGENCY: Nuclear Regulatory Commission.

ACTION: Notice of consideration; correction.

SUMMARY: This document corrects a notice appearing in the Federal Register on December 20, 2004 (69 FR 76019), that provided an incorrect application date. This action is necessary to correct an erroneous date.

FOR FURTHER INFORMATION CONTACT: David H. Jaffe, Office of Nuclear Reactor Regulation, U.S. Nuclear Regulatory Commission, Washington, DC 20555-0001; telephone (301) 415-1439, e-mail: dhj@nrc.gov.

SUPPLEMENTARY INFORMATION: On page 76021, in the first column, in the second complete paragraph, third line, it is corrected to read from “October 12, 2004,” to “October 21, 2004''.

Dated in Rockville, Maryland, this 25th day of February 2005.
For the Nuclear Regulatory Commission.
Allen G. Howe,
Chief, Section 1, Project Directorate IV, Division of Licensing Project Management, Office of Nuclear Reactor Regulation.

[FR Doc. 05-4069 Filed 3-2-05; 8:45 am]

BILLING CODE 7590-01-P